DEPARTMENT OF TRANSPORTATION

Federal Aviation Administration

RTCA Special Committee 198: Next Generation Air/Ground Communications System (NEXCOM)

AGENCY: Federal Aviation Administration (FAA), DOT.

ACTION: Notice of RTCA Special Committee 198 meeting.

SUMMARY: The FAA is issuing this notice to advise the public of a meeting of RTCA Special Committee 198: Next Generation Air/Ground Communications System (NEXCOM).

DATES: The meeting will be held on September 19-20, 2001, starting at 9:00 am.

ADDRESSES: The meeting will be held at RTCA, 1828 L Street, Suite 805, Washington, DC. 20036.

FOR FURTHER INFORMATION CONTACT: RTCA Secretariat, 1828 L Street NW, Suite 805, Washington, DC. 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Special Committee 198 meeting. The agenda will include:

• September 19:

• Opening Plenary Session (Welcome and Introductory Remarks, Review Minutes of Previous Meeting, Introduction of Working Group Chairs and Secretaries)

• Plenary Review of Comments and Concurrence Inputs for Principles of Operations Document.

• September 20:

• Continuation of Plenary Review of Principles of Operations Document

• Review Changes to Terms of Reference

• Closing Plenary Session (Date and Place of Next Meeting)

Attendance is open to the interested public but limited to space availability. With the approval of the chairmen, members of the public may present oral statements at the meeting. Persons wishing to present or obtain information should contact the person listed in the FOR FURTHER INFORMATION CONTACT section. Members of the public may present a written statement to the committee at any time.

Issued in Washington, DC, on August 22, 2001.
Janice L. Peters,
FAA Special Assistant, RTCA Advisory Committee.

[FR Doc. 01-22050 Filed 8-30-01; 8:45 am]

BILLING CODE 4910-13-M